DEPARTMENT OF AGRICULTURE

Natural Resources Conservation Service

Notice of Proposed Changes to Section IV of the Field Office Technical Guide (FOTG) of the Natural Resources Conservation Service in North Dakota

AGENCY: Natural Resources Conservation Service (NRCS), USDA.

ACTION: Notice of availability of proposed changes in Section IV of the FOTG of the NRCS in North Dakota for review and comment.

SUMMARY: It is the intention of the NRCS in North Dakota to issue a revised conservation practice standard, Wetland Restoration (Code 657), in Section IV of the FOTG. This practice may be used in conservation systems that treat wetlands.

DATES: Comments will be received on or before April 26, 2000.

ADDRESSES: Address all requests and comments to Myron P. Senechal, State Resource Conservationist, Natural Resources Conservation Service, P.O. Box 1458 Bismarck, ND 58502-1458. Copies of this standard will be made available upon written request. You may submit electronic requests and comments to Myron.Senechal@nd.usda.gov.

FOR FURTHER INFORMATION CONTACT: Myron P. Senechal, (701) 530-2085.

SUPPLEMENTARY INFORMATION: Section 343 of the Federal Agriculture Improvement and Reform Act of 1996 states that revisions made after enactment of the law to NRCS state technical guides used to carry out highly erodible land and wetland provisions of the law, shall be made available for public review and comment. For the next 30 days, the NRCS in North Dakota will receive comments relative to the proposed changes. Following that period, a determination will be made by the NRCS in North Dakota regarding disposition of those comments and a final determination of changes will be made.

Dated: March 16, 2000.
Thomas E. Coleman
Assistant State Conservationist (Operations, Bismarck, North Dakota.

[FR Doc. 00-7398 Filed 3-24-00; 8:45 am]

BILLING CODE 3410-16-P